DEPARTMENT OF THE INTERIOR

National Park Service

[NPS-WASO-NRNHL-DTS#-30990; PPWOCRADI0, PCU00RP14.R50000]

National Register of Historic Places; Notification of Pending Nominations and Related Actions

AGENCY: National Park Service, Interior.

ACTION: Notice.

SUMMARY: The National Park Service is soliciting electronic comments on the significance of properties nominated before September 26, 2020, for listing or related actions in the National Register of Historic Places.

DATES: Comments should be submitted electronically by October 29, 2020.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

SUPPLEMENTARY INFORMATION: The properties listed in this notice are being considered for listing or related actions in the National Register of Historic Places. Nominations for their consideration were received by the National Park Service before September 26, 2020. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

CALIFORNIA

Sutter County

Vernon School (Asian Americans and Pacific Islanders in California, 1850-1970 MPS) Jct. of Garden Hwy. and Vernon Rd., Verona vicinity, MP100005737

NEW HAMPSHIRE

Belknap County

Colonial Theatre Complex, 609-621 Main St. and 21-31 Canal St., Laconia, SG100005742

NEW MEXICO

Bernalillo County

Downtowner Motor Inn, 717 Central Ave. NW, Albuquerque, SG100005731

Torrance County

Duran Historic District, Roughly bounded by NM 3, Vidal and East Sts., and Park Ave., Duran, SG100005733

NEW YORK

Albany County

National Biscuit Company Complex, 221-225 North Pearl St. and 75 Livingston Ave., Albany, SG100005744

PUERTO RICO

Cayey Municipality

Carretera #4, PR-15, from km. 0 in Guayama to km. 25.7 in Cayey, Cayey vicinity, SG100005741

Guayama Municipality

Carretera #4, PR-15, from km. 0 in Guayama to km. 25.7 in Cayey, Guayama vicinity, SG100005741

Authority: Section 60.13 of 36 CFR part 60.

Dated: September 29, 2020.
Sherry A. Frear,
Chief, National Register of Historic Places/National Historic Landmarks Program.

[FR Doc. 2020-22651 Filed 10-13-20; 8:45 am]

BILLING CODE 4312-52-P